ENVIRONMENTAL PROTECTION AGENCY

[FRL -7865-4]

Science Advisory Board Staff Office; EPI Suite Review Panel of the Science Advisory Board; Request for Nominations

AGENCY: Environmental Protection Agency (EPA).

ACTION: Notice.

SUMMARY: The U.S. Environmental Protection Agency (EPA or Agency) Science Advisory Board (SAB) Staff Office (hereinafter, the “Staff Office”) is announcing the formation of a new SAB review panel known as the EPI Suite Review Panel of the Science Advisory Board (hereinafter, the “Panel”) and is hereby soliciting nominations for this Panel.

DATES: Nominations should be submitted by February 22, 2005, per the instructions below.

FOR FURTHER INFORMATION CONTACT: Any member of the public wishing further information regarding this Request for Nominations may contact Ms. Kathleen White, Designated Federal Officer (DFO), EPA Science Advisory Board Staff, at telephone/voice mail: (202) 343-9878; or via e-mail at: white.kathleen@epa.gov. General information concerning the SAB can be found on the EPA Web site at: http://www.epa.gov/sab.

SUPPLEMENTARY INFORMATION: Background: A mission of the U.S. EPA's Office of Pollution Prevention and Toxics (OPPT) is to evaluate potential risks of commercial chemical substances that are or will be released to the environment. OPPT also has the primary responsibility for implementing Agency policy on pollution prevention (P2), and in this role is a critical provider of information and guidance to risk assessors and risk managers. The understanding of and ability to predict the behavior of a chemical substance in a biological or environmental system depends upon knowledge of the physical, chemical and environmental properties of that substance. Accordingly, OPPT has supported the development of software for estimating these properties from chemical structure known as the Estimation Programs Interface (EPI) suite. EPI Suite is routinely used in evaluating new chemicals under EPA's Premanufacture Notices (PMNs) for new chemicals under section 5 of the Toxic Substances Control Act, and is widely used for predicting physical/chemical properties and environmental fate and transport properties for chemicals already in commerce. Further information about EPI Suite and its applications can be found at: http://www.epa.gov/opptintr/exposure/docs/episuite.htm. OPPT has requested that the EPA Science Advisory Board (SAB) review the supporting science, functionality, and appropriate use of EPI Suite.

The SAB's mission, as established by 42 U.S.C. 4365, is to provide independent scientific and technical advice, consultation, and recommendations to the EPA Administrator on the technical bases for EPA policies and regulations. In response to OPPT's request, the SAB will form a review panel to conduct a review of the EPI Suite. The EPI Suite Review Panel will provide advice through the chartered SAB. The Panel will provide advice regarding the comprehensiveness and soundness of the science supporting EPI Suite including method validation, alternative estimation methods, completeness of the software, documentation, and appropriateness of its current applications. The Panel will consider both appropriate use in the PMN program and other uses in screening level assessments. The work of this panel is expected to continue until the review is complete. The EPI Suite Review Panel will comply with the openness provisions of the Federal Advisory Committee Act (FACA) and all appropriate SAB procedural policies, including the SAB process for panel formation described in the Overview of the Panel Formation Process at the Environmental Protection Agency Science Advisory Board, which can be found on the SAB's Web site at: http://www.epa.gov/sab/pdf/ec0210.pdf.

Request for Nominations: The SAB Staff Office is requesting nominations of recognized scientists and engineers with expertise in one or more of the following areas:

(1) Environmental chemistry and engineering;

(2) Pollution prevention, especially experience deciding whether or not to go into production with a chemical;

(3) Development of estimation models, such as QSARs that predict properties, effects and fate of chemicals from structure; and

(4) Application of EPI Suite or similar tools.

Process and Deadline for Submitting Nominations: Any interested person or organization may nominate individuals qualified in any of the areas of expertise described above to serve on the Panel. Nominations should be submitted in electronic format through the Form for Nominating Individuals to Panels of the EPA Science Advisory Board provided on the SAB Web site. The form can be accessed through a link on the blue navigational bar on the SAB Web site, http://www.epa.gov/sab. To be considered, all nominations must include the information required on that form.

Anyone who is unable to submit nominations electronically using this form, or who has questions concerning the nomination process may contact Ms. Kathleen White, DFO, as indicated above in this notice. Nominations should be submitted in time to arrive no later than February 22, 2005. Any questions concerning either this process or any other aspects of this notice should be directed to the DFO.

To be considered, all nominations must include: (a) A current biography, curriculum vitae (C.V.) or resume, which provides the nominee's background, experience and qualifications for the Committee; and (b) a brief biographical sketch (“biosketch”). The biosketch should be no longer than one page and must contain the following information for the nominee:

(i) Current professional affiliations and positions held;

(ii) Area(s) of expertise, and research activities and interests;

(iii) Leadership positions in national associations or professional publications or other significant distinctions;

(iv) Educational background, especially advanced degrees, including when and from which institutions these were granted;

(v) Service on other advisory committees, professional societies, especially those associated with issues under discussion in this review; and

(vi) Sources of recent (i.e., within the preceding two years) grant and/or other contract support, from government, industry, academia, etc., including the topic area of the funded activity. Please note that even if there is no responsive information (e.g., no recent grant or contract funding), this must be indicated on the biosketch (by “N/A” or “None”). Incomplete biosketches will result in nomination packages not being accepted.

The EPA SAB Staff Office will acknowledge receipt of the nomination. After considering the nominees (termed the “Widecast”), the SAB Staff Office will identify a subset (known as the “Short List”) for more detailed consideration. Criteria used by the Staff Office in developing this Short List are given at the end of the following paragraph. The Short List will be posted on the SAB Web site at: http://www.epa.gov/sab, and will include the nominees' names and their biosketches. Public comments will be accepted for 21 calendar days on the Short List. During this comment period, the public may provide information, analysis or other documentation on nominees that the Staff Office should consider in evaluating candidates for the Panel.

For the EPA SAB Staff Office, a balanced Panel is characterized by inclusion of candidates who possess the necessary domains of knowledge, the relevant scientific perspectives (which, among other factors, can be influenced by work history and affiliation), and the collective breadth of experience to adequately address the charge. Public responses to the Short List candidates will be considered in the selection of the Panel, along with information provided by candidates and information independently-gathered by the SAB Staff Office on the background of each candidate (e.g., financial disclosure information and computer searches to evaluate a nominee's prior involvement with the topic under review). Specific criteria to be used in evaluating an individual Panel member include: (a) Scientific and/or technical expertise, knowledge, and experience (primary factors); (b) availability and willingness to serve; (c) absence of financial conflicts of interest; (d) scientific credibility and impartiality; and (e) skills working in advisory committees, subcommittees and review panels.

Short List candidates must submit the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

In addition to reviewing background material, Panel members will be asked to attend one public face-to-face meeting over the anticipated course of the advisory activity.

Dated: January 21, 2005.
Vanessa T. Vu,
Director, EPA Science Advisory Board Staff Office.

[FR Doc. 05-1716 Filed 1-28-05; 8:45 am]

BILLING CODE 6560-50-P